DEPARTMENT OF HOMELAND SECURITY

[DHS-2015-0051]

Committee Name: Homeland Security Information Network Advisory Committee (HSINAC); Correction

AGENCY: Information Sharing Environment (ISEO)/Office of Chief Information Officer (OCIO), HSD.

ACTION: Notice; correction.

SUMMARY: The Department of Homeland Security (DHS) Homeland Security Information Network Advisory Committee (HSINAC) published a document in the Federal Register of August 25, 2015, concerning the announcement of a meeting in Washington, DC on September 28-29, 2015. The document contained incorrect dates.

FOR FURTHER INFORMATION CONTACT: Allison Buchinski, allison.buchinski@associates.dhs.gov, 202-343-4277.

Correction

In the Federal Register of August 25, 2015, in FR Doc. 2015-20945, on page 51581, in the first column, correct the DATES caption to read:

DATES: The HSINAC will meet on Wednesday, April 27, 2016 from 9 a.m.-5 p.m. EST and Thursday, April 28, 2016 from 9 a.m.-12 p.m. in Washington, DC, and via conference call and HSIN Connect, an online web-conferencing tool, both of which will be made available to members of the general public. Please note that the meeting may end early if the committee has completed its business.

In the Federal Register of August 25, 2015, in FR Doc. 2015-20945, on page 51581, in the second column, correct the “Docket” paragraph 2 caption to read:

A public comment period will be held during the meeting on Wednesday, April 27, 2016 from 4:30 p.m. to 4:45 p.m. and again on Thursday, April 28, from 11:00 a.m. to 11:15 a.m. Speakers are requested to limit their comments to 3 minutes. Please note that the public comment period may end before the time indicated, following the last call for comments. Contact one of the individuals listed below to register as a speaker.

Dated: September 15, 2015.
James Lanoue,
HSIN Program Director.

[FR Doc. 2015-23621 Filed 9-18-15; 8:45 am]

BILLING CODE 9110-9B-P